DEPARTMENT OF HOUSING AND URBAN DEVELOPMENT

[Docket No. FR-5604-N-05]

Notice of Submission of Proposed Information Collection to OMB: Rural Housing Stability Assistance Program Grant Application-Rural Housing Stability Assistance Program Application

AGENCY: Office of Community Planning and Development, HUD.

ACTION: Notice.

SUMMARY: The proposed information collection requirement described below has been submitted to the Office of Management and Budget (OMB) for review, as required by the Paperwork Reduction Act. The Department is soliciting public comments on the subject proposal.

DATES: Comments Due Date: July 24, 2012.

ADDRESSES: Interested persons are invited to submit comments regarding this proposal. Comments should refer to the proposal by name and/or OMB approval Number (2528-New) and should be sent to: Colette Pollard, Departmental Reports Management Officer, QDAM, Department of Housing and Urban Development, 451 7th Street SW., Room 4160, Washington, DC 20410-5000; telephone (202) 402-3400, (this is not a toll-free number) or email Ms. Pollard at Colette_Pollard@hud.gov for a copy of proposed forms, or other available information. Persons with hearing or speech impairments may access this number through TTY by calling the toll-free Federal Information Relay Service at (800) 877-8339.

FOR FURTHER INFORMATION CONTACT: Ann Marie Oliva, Director, Office of Special Needs Assistance Programs, Office of Community Planning and Development, Department of Housing and Urban Development, 451 Seventh Street SW., Room 7262, Washington, DC 20410; telephone (202) 708-16590. (This is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Rural Housing Stability Assistance Program Grant Application-Rural Housing Stability Assistance Program Application.

Description of the Need for the Information and Its Proposed Use: This submission is to request a new collection for the reporting burden associated with application requirements that Rural Housing Stability Assistance Program (RHSP) applicants will be expected to complete.

This submission is limited to the reporting burden under the RHSP program, created through the HEARTH Act. To see the regulations for the new RHSP program and applicable supplementary documents, visit HUD's Homeless Resource Exchange page at http://www.hudhre.info/. The statutory provisions and the implementing regulations that govern the program require new application requirements.

Agency Form Numbers: None.

Members of the affected public: RHSP applicant representatives.

Estimation of the total number of hours needed to prepare the information collection including number of respondents, frequency of response, and hours of response:

The RHSP Application will be completed by many of the HUD identified 230 rural counties and will require approximately 141 hours to complete. The application process will occur once per year after the release of the annual RHSP notice of funding availability. The total number of hours needed for all reporting per year is 32,319 hours.

Status of proposed information collection: New Collection for the implementation of a related (to the former CoC-based programs) but new program created under the HEARTH Act.

Authority: Section 3506 of the Paperwork Reduction Act of 1995, 44 U.S.C. Chapter 35, as amended.

Dated: May 17, 2012.
Clifford D. Taffet,
General Deputy Assistant Secretary for Community Planning and Development.

[FR Doc. 2012-12842 Filed 5-24-12; 8:45 am]

BILLING CODE 4210-67-P